DEPARTMENT OF ENERGY

Federal Energy Regulatory Commission

Combined Notice of Filings # 1

June 27, 2007.

Take notice that the Commission received the following electric corporate filings:

Docket Numbers: EC06-126-000.

Applicants: Canal Electric Company; Boston Edison Company; Cambridge Electric Light Company; Commonwealth Electric Company.

Description: NSTAR Electric and Gas submits the accounting entries related to the merger of Cambridge Electric Light Co et al. into Boston Edison Co in accordance with FERC's 10/20/06 Order.

Filed Date: 06/22/2007.

Accession Number: 20070626-0042.

Comment Date: 5 p.m. Eastern Time on Friday, July 13, 2007.

Docket Numbers: EC07-111-000.

Applicants: Brookfield Asset Management Inc.; Brookfield Power Inc.; Brookfield Power U.S. Holding America Company.

Description: Brookfield Asset Management Inc et al submit a joint application for authorization a proposed transaction by which BP U.S. Holding will acquire the sole ownership interest in FH Opco LLC.

Filed Date: 06/22/2007.

Accession Number: 20070626-0068.

Comment Date: 5 p.m. Eastern Time on Friday, July 13, 2007.

Take notice that the Commission received the following electric rate filings:

Docket Numbers: ER98-4159-008; ER07-157-001; ER06-398-002; ER06-399-002; ER04-268-005.

Applicants: Macquarie Cook Power, Inc.; Duquesne Power, LLC; Duquesne Keystone, LLC; Duquesne Conemaugh, LLC; Duquesne Light Company.

Description: Macquire Cook Power, Inc et al. submit their notice of change in status related to the 5/31/07 acquisition of Duquesne Light Holdings, Inc.

Filed Date: 06/25/2007.

Accession Number: 20070627-0101.

Comment Date: 5 p.m. Eastern Time on Monday, July 16, 2007.

Docket Numbers: ER03-563-062; EL04-102-017.

Applicants: Devon Power LLC.

Description: Devon Power LLC, et al., Tenth Compliance Report of ISO New England Inc.

Filed Date: 06/25/2007.

Accession Number: 20070625-5031.

Comment Date: 5 p.m. Eastern Time on Monday, July 16, 2007.

Docket Numbers: ER03-1150-002.

Applicants: Texzon Utilities, Ltd. Co.

Description: Texzon Utilities Ltd submits an updated market power analysis.

Filed Date: 06/22/2007.

Accession Number: 20070626-0084.

Comment Date: 5 p.m. Eastern Time on Friday, July 13, 2007.

Docket Numbers: ER07-457-002; ER07-458-002.

Applicants: E.ON U.S., LLC.

Description: Kentucky Utilities Company submits a revised version of the executed Interconnection Agreement with Big Rivers Electric Corporation.

Filed Date: 06/22/2007.

Accession Number: 20070626-0056.

Comment Date: 5 p.m. Eastern Time on Friday, July 13, 2007.

Docket Numbers: ER07-529-002.

Applicants: Midwest Independent Transmission System Operator, Inc.

Description: Midwest Independent Transmission System Operator, Inc submits revisions to its Open Access Transmission and Energy Markets Tariff pursuant to Section 205 of the FPA.

Filed Date: 06/25/2007.

Accession Number: 20070626-0051.

Comment Date: 5 p.m. Eastern Time on Monday, July 16, 2007.

Docket Numbers: ER07-546-002; ER07-547-001.

Applicants: ISO New England Inc.; New England Power Pool Participants Committee.

Description: ISO New England, Inc et al. submit their compliance filing pursuant to the Commission's 4/16/07 order.

Filed Date: 06/21/2007.

Accession Number: 20070626-0085.

Comment Date: 5 p.m. Eastern Time on Thursday, July 12, 2007.

Docket Numbers: ER07-666-001.

Applicants: Midwest Independent Transmission System.

Description: Midwest Independent Transmission System Operator, Inc submits a Small Generator Interconnection Agreement with Hardin Hilltop Wind, LLC et al. pursuant to Section 205 of the Federal Power Act etc under ER07-666.

Filed Date: 06/25/2007.

Accession Number: 20070626-0054.

Comment Date: 5 p.m. Eastern Time on Monday, July 16, 2007.

Docket Numbers: ER07-737-001.

Applicants: PacifiCorp.

Description: PacifiCorp submits a refund report in Compliance with the Commission's June 7, 2007 Letter Order.

Filed Date: 06/25/2007.

Accession Number: 20070625-5075.

Comment Date: 5 p.m. Eastern Time on Monday, July 16, 2007.

Docket Numbers: ER07-881-002.

Applicants: Alliant Energy Corporate Services, Inc.

Description: Alliant Energy Corporate Services, Inc submits its second errata to its System Coordination and Operating Agreement.

Filed Date: 06/22/2007.

Accession Number: 20070626-0055.

Comment Date: 5 p.m. Eastern Time on Friday, July 13, 2007.

Docket Numbers: ER07-918-001.

Applicants: AP Holdings Southaven, LLC.

Description: AP Holdings Southaven, LLC resubmits Original Sheet 1 et al. to FERC Electric Tariff, First Revised Volume 1 to reflect the name change with correct pagination re the 5/18/07 filing of notification of succession.

Filed Date: 06/21/2007.

Accession Number: 20070626-0081.

Comment Date: 5 p.m. Eastern Time on Thursday, July 12, 2007.

Docket Numbers: ER07-1063-000.

Applicants: AB Energy NE, Pty. Ltd.

Description: AB Energy NE, Pty, Ltd submits their FERC Electric Tariff, Original Volume No. 1.

Filed Date: 06/21/2007.

Accession Number: 20070626-0082.

Comment Date: 5 p.m. Eastern Time on Thursday, July 12, 2007.

Docket Numbers: ER07-1064-000.

Applicants: Pacific Gas and Electric Company.

Description: Pacific Gas and Electric Co submits Notice of Cancellation of Service Agreement 76 under FERC Electric Tariff, Sixth Revised Volume 5 with Federal Power Avenal, LLC.

Filed Date: 06/21/2007.

Accession Number: 20070626-0083.

Comment Date: 5 p.m. Eastern Time on Thursday, July 12, 2007.

Docket Numbers: ER07-1066-000.

Applicants: New York State Electric & Gas Corporation.

Description: New York State Electric & Gas Corp submits Original Service Agreement 1147 with WM Renewable Energy, LLC under the New York Independent System Operator, Inc Open Access Transmission Tariff etc.

Filed Date: 06/21/2007.

Accession Number: 20070626-0079.

Comment Date: 5 p.m. Eastern Time on Thursday, July 12, 2007.

Docket Numbers: ER07-1067-000.

Applicants: Ocean State Power I; Ocean State Power II.

Description: Ocean State Power I and Ocean State Power II submits. Revised Rate Schedules 1 and 5.

Filed Date: 06/21/2007.

Accession Number: 20070626-0080.

Comment Date: 5 p.m. Eastern Time on Thursday, July 12, 2007.

Docket Numbers: ER07-1068-000.

Applicants: Ontelaunee Power Operating Company, LLC.

Description: Metropolitan Edison Company submits the instant filing in compliance with the Commission's order denying in Part complaint and establishing hearing and Settlement Judge Procedures.

Filed Date: 06/21/2007.

Accession Number: 20070626-0086.

Comment Date: 5 p.m. Eastern Time on Thursday, July 12, 2007.

Docket Numbers: ER07-1069-000.

Applicants: American Electric Power Service Corporation.

Description: American Electric Power Service Corp, on behalf of Public Service Co of Colorado et al. submits its revised pro-forma tariff sheets for AEP's pricing zone under Schedule 1, Addendum 1 to Schedule 1, Attachment H etc.

Filed Date: 06/22/2007.

Accession Number: 20070626-0071.

Comment Date: 5 p.m. Eastern Time on Friday, July 13, 2007.

Docket Numbers: ER07-1070-000.

Applicants: Florida Power & Light Company.

Description: Florida Power & Light Company submits a new Rate Schedule 306, Agreement for Generator Balancing Service with New Hope Power Partnership pursuant to Section 205 of the Federal Power Act.

Filed Date: 06/22/2007.

Accession Number: 20070626-0061.

Comment Date: 5 p.m. Eastern Time on Friday, July 13, 2007.

Docket Numbers: ER07-1071-000.

Applicants: PJM Interconnection, LLC.

Description: Virginia Electric and Power Co dba Dominion Virginia Power submits a new Attachment H-16B to the Open Access Transmission Tariff.

Filed Date: 06/22/2007.

Accession Number: 20070626-0060.

Comment Date: 5 p.m. Eastern Time on Friday, July 13, 2007.

Docket Numbers: ER07-1072-000.

Applicants: PJM Interconnection, LLC; Virginia Electric and Power Company.

Description: Virginia Electric and Power Co dba Dominion Virginia. Power submits a new Attachment H-16B to the Open Access Transmission Tariff.

Filed Date: 06/22/2007.

Accession Number: 20070626-0060.

Comment Date: 5 p.m. Eastern Time on Friday, July 13, 2007.

Docket Numbers: ER07-1073-000.

Applicants: Entergy Arkansas, Inc.

Description: Entergy Services, Inc on behalf of Entergy Arkansas, Inc et al. submit an amended Exhibit H to the Power Coordination, Interchange and Transmission Service Agreement with Arkansas Electric Cooperative Corp.

Filed Date: 06/22/2007.

Accession Number: 20070626-0059.

Comment Date: 5 p.m. Eastern Time on Friday, July 13, 2007.

Docket Numbers: ER07-1074-000.

Applicants: New York Independent System Operator, Inc.

Description: New York Independent System Operator, Inc et al. submit an executed Small Generator Interconnection Agreement with Seneca Energy II, LLC.

Filed Date: 06/22/2007.

Accession Number: 20070626-0058.

Comment Date: 5 p.m. Eastern Time on Friday, July 13, 2007.

Docket Numbers: ER07-1075-000.

Applicants: New York State Electric & Gas Corporation.

Description: New York State Electric & Gas Corporation submits a notice of cancellation of a Service Agreement under which it provided interconnection service to Seneca Energy II LLC.

Filed Date: 06/22/2007.

Accession Number: 20070626-0057.

Comment Date: 5 p.m. Eastern Time on Friday, July 13, 2007.

Docket Numbers: ER07-1076-000.

Applicants: Upper Peninsula Power Company.

Description: Upper Peninsula Power Co. submits a letter of understanding with the City of Escanaba, Michigan memorializing the parties' understanding concerning the cost of energy relative to an Escanaba power purchase that will begin on 6/25/07.

Filed Date: 06/25/2007.

Accession Number: 20070627-0108.

Comment Date: 5 p.m. Eastern Time on Monday, July 16, 2007.

Take notice that the Commission received the following exempt wholesale generator filings:

Docket Numbers: EG07-61-000.

Applicants: Warm Springs Biomass Project, LLC.

Description: Notice of Self-Certification of Exempt Wholesale Generator Status.

Filed Date: 06/26/2007.

Accession Number: 20070625-5079.

Comment Date: 5 p.m. Eastern Time on Tuesday, July 17, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Kimberly D. Bose,
Secretary.

[FR Doc. E7-12809 Filed 7-2-07; 8:45 am]

BILLING CODE 6717-01-P